DEPARTMENT OF THE INTERIOR

Bureau of Land Management

[LLUT0300-16100000-LXSS005J0000]

Notice of Intent To Prepare a Livestock Grazing Monument Management Plan Amendment and Associated Environmental Impact Statement for the Grand Staircase-Escalante National Monument, Utah

AGENCY: Bureau of Land Management, Interior.

ACTION: Notice of intent.

SUMMARY: In compliance with the National Environmental Policy Act of 1969 (NEPA), as amended, and the Federal Land Policy and Management Act of 1976 (FLPMA), as amended, the Bureau of Land Management (BLM) Grand Staircase-Escalante National Monument (GSENM), Kanab, Utah, intends to prepare a Livestock Grazing Monument Management Plan Amendment (Plan Amendment) with an associated Environmental Impact Statement (EIS). This notice announces the beginning of the scoping process to solicit public comments and identify issues. The Plan Amendment will make land use-level decisions associated with livestock grazing, thereby amending the GSENM Management Plan.

DATES: This notice initiates the public scoping process for the Plan Amendment and associated EIS. Public scoping meetings will be hosted in the following locations: Kanab, Escalante, and Salt Lake City, Utah. The date(s) and specific location(s) and any other public involvement activities will be announced at least 15 days in advance through local media outlets and on the GSENM Web site at: www.ut.blm.gov/monument. The public scoping period runs from the issuance of this notice for 60 days or until 30 days after the last public scoping meeting is held, whichever is later. Comments on issues and planning criteria may be submitted in writing during this time. In order to be considered in the Draft Plan Amendment/EIS, all comments must be received prior to the close of the scoping period. BLM Utah will provide additional opportunities for public participation upon publication of the Draft Plan Amendment/EIS.

ADDRESSES: You may submit comments on issues and planning criteria related to the GSENM Plan Amendment/EIS by any of the following methods:

• Email: BLM_UT_GS_EIS@blm.gov;

• Fax: 435-644-1250; or

• Mail: Bureau of Land Management, Grand Staircase-Escalante National Monument, 669 S. HWY 89-A, Kanab, UT 84741.

Documents pertinent to this planning effort may be examined at the GSENM Office, 669 S. HWY 89-A, Kanab, Utah.

FOR FURTHER INFORMATION CONTACT: Matt Betenson, Assistant Monument Manager, Planning and Support Services; telephone: 435-644-1205; address: GSENM Office, 669 S. HWY 89-A, Kanab, UT 84741; email: BLM_UT_GS_EIS@blm.gov. Persons who use a telecommunications device for the deaf (TDD) may call the Federal Information Relay Service (FIRS) at 1-800-877-8339 to leave a message or question with the above individual. The FIRS is available 24 hours a day, 7 days a week. Replies are provided during normal business hours.

SUPPLEMENTARY INFORMATION: This document provides notice that the BLM GSENM intends to prepare a Plan Amendment with an associated EIS and announces the beginning of the public scoping process to request public input on issues and planning criteria. Cooperating agencies include the State of Utah; Garfield County and Kane County, Utah; the U.S. Fish and Wildlife Service; and the National Park Service (NPS) Glen Canyon National Recreation Area (GCNRA). The planning area includes all lands within the GSENM where BLM has livestock grazing management and/or administrative responsibility. This includes the BLM-Utah lands within GSENM and additional lands within portions of the Kanab Field Office (KFO) and the Arizona Strip Field Office (ASFO), as well as lands managed by NPS in GCNRA where GSENM administers grazing.

Management decisions for lands in the planning area, but outside the GSENM boundary, will be consistent with the goals and objectives of the KFO, ASFO, and the GCNRA enabling legislation and management plans, as appropriate. NPS will also be making a decision for the GCNRA lands consistent with that area's enabling legislation (Pub. L. 92-593). The planning area encompasses approximately 2.2 million acres of Federal lands in Garfield County and Kane County, Utah, and Coconino County, Arizona. Approximately 68 percent of the planning area is in Kane County, approximately 32 percent is in Garfield County, and less than 1 percent is in Coconino County. The purpose of the public scoping process is to determine relevant issues related to livestock grazing that will influence the scope of the environmental analysis, including alternatives, and to guide the planning process.

Preliminary issues related to livestock grazing that are likely to be addressed in the Plan Amendment and EIS include the following:

• Effects on GSENM proclamation-identified scientific and historic objects and values;

• Lands available for livestock grazing within the planning area;

• Effects on the resources and values for which GCNRA was established;

• Forage currently available on an area-wide basis for livestock grazing and available for future anticipated demands;

• Guidelines and criteria for future allotment-specific adjustments, such as rotational grazing plans which affect the livestock use;

• Impacts on local custom and culture as well as the area's economy; and

• Management of existing rangeland improvement seedings.

Additional issues will likely be added through the public scoping process. Planning criteria are the standards, rules, and other factors developed by managers and interdisciplinary teams for their use in forming judgments about decision making, analysis, and data collection during planning. Planning criteria streamline and simplify the resource management planning actions. The following preliminary criteria will be considered in the Plan Amendment and EIS process:

• The Plan Amendment will be limited to making land use planning decisions specific to livestock grazing.

• Lands addressed in the Plan Amendment will be public lands managed by the BLM and the NPS.

• Grazing within the GCNRA will be administered in a portion of GCNRA in a manner that protects GCNRA values and purposes pursuant to Public Law 92-593 and in accordance with the 1916 NPS Organic Act.

• The process must utilize The Utah Standards for Rangeland Health and Guidelines for Livestock Grazing Management. The BLM will apply existing applicable Land Health Standards to all alternatives.

• The approved GSENM Plan Amendment will comply with FLPMA, NEPA, National Historic Preservation Act, and Council on Environmental Quality regulations at 40 CFR parts 1500-1508 and Department of the Interior regulations at 43 CFR part 46 and 43 CFR part 1600; the BLM H-1601-1 Land Use Planning Handbook; the 2008 BLM H-1790-1 NEPA Handbook, and all other applicable BLM policies and guidance.

• Land use planning decisions must be consistent with the purpose and objectives outlined in the presidential proclamation for the GSENM and the enabling legislation for GCNRA, as applicable.

• Socio-economic analysis will use an accepted input-output quantitative model such as IMPLAN or RIMSII, and/or JEDI for analysis.

• The BLM and NPS will review and use as appropriate current scientific information, research, technologies, and results of inventory, monitoring, and coordination to determine appropriate management strategies.

• The BLM and NPS will coordinate and communicate with State, local, and tribal governments to ensure that the BLM and NPS consider provisions of pertinent plans, seek to resolve inconsistencies between State, local, and Tribal plans, and provide ample opportunities for State, local, and Tribal governments to comment on the development of amendments.

• The Plan Amendment will be based on the principles of Adaptive Management.

You may submit comments on issues and planning criteria in writing to the BLM at any public scoping meeting, or you may submit them to the BLM using one of the methods listed in the ADDRESSES section above. To be most helpful, you should submit comments before the close of the public scoping period. Before including your address, phone number, email address, or other personal identifying information in your comment, you should be aware that your entire comment—including your personal identifying information—may be made publicly available at any time. While you can request we withhold your personal identifying information from public review, we cannot guarantee that we will be able to do so. The minutes and list of attendees for each public scoping meeting will be available to the public and open for 30 days after the meeting to any participant who wishes to clarify the views he or she expressed. The BLM will evaluate identified issues to be addressed in the plan amendment, and will place them into one of three categories:

1. Issues to be resolved in the plan amendment;

2. Issues to be resolved through policy or administrative action; or

3. Issues beyond the scope of this plan amendment.

The BLM will provide an explanation in the Draft Plan Amendment/EIS as to why an issue was placed in category two or three. The public is also encouraged to help identify any management questions and concerns that should be addressed in the plan. The BLM will work collaboratively with interested parties to identify the management decisions that are best suited to local, regional, and national needs and concerns.

The BLM will use an interdisciplinary approach to develop the plan amendment in order to consider the variety of issues and concerns identified. Specialists with expertise in the following disciplines will be involved in the planning process: rangeland management, botany, environmental planning and compliance, ecology, outdoor recreation and wilderness management, visual resources, archaeology, paleontology, wildlife and fisheries, hydrology, soils, sociology and economics, and public affairs.

Authority: 40 CFR 1501.7 and 43 CFR 1610.2.

Jenna Whitlock,
Acting State Director.

[FR Doc. 2013-25924 Filed 11-1-13; 8:45 am]

BILLING CODE 4310-DQ-P